DEPARTMENT OF THE TREASURY

Internal Revenue Service

Open meeting of Citizen Advocacy Panel, Pacific Northwest Panel

ACTION: Notice.

SUMMARY: An open meeting of the Pacific-Northwest Citizen Advocacy Panel will be held in Fairbanks, Alaska.

DATES: The meeting will be held Friday September 21, 2001 and Saturday September 22, 2001.

FOR FURTHER INFORMATION CONTACT: Judi L. Nicholas at 1-888-912-1227 or 206-220-6096.

SUPPLEMENTARY INFORMATION: Notice is hereby given pursuant to Section 10(a)(2) of the Federal Advisory Committee Act, 5 U.S.C. App. (1988) that an open meeting of the Citizen Advocacy Panel will be held Friday January 12, 2001, from 9:00 a.m. to 4:30 p.m. at the Federal Building located at 101 12th Avenue, Fairbanks, AK, 99701; Saturday, September 22, 2001, from 9:30 a.m. to 12:30 p.m. at the Fairbanks Public Library located at 1215 Cowles Street, Fairbanks, AK. The public is invited to make oral comments. Individual comments will be limited to 10 minutes. If you would like to have the CAP consider a written statement, please call 1-888-912-1227 or 206-220-6096, or write Judi L. Nicholas, CAP Office, 915 2nd Avenue, Room 442, Seattle, WA 98174. Due to limited conference space, notification of intent to attend the meeting must be made with Judi L. Nicholas. Ms. Nicholas can be reached at 1-888-912-1227 or 206-220-6096.

The Agenda will include the following: various IRS issue updates and reports by the CAP sub-groups.

Note: Last minute changes to the agenda are possible and could prevent effective advance notice.

Dated: September 5, 2001.
Cindy Vanderpool,
Acting Director, CAP, Communications and Liaison.

[FR Doc. 01-22798 Filed 9-11-01; 8:45 am]

BILLING CODE 4830-01-P